DEPARTMENT OF THE TREASURY

Comment Request for the Financial Literacy and Education Commission on Kindergarten Through Postsecondary Financial Education

AGENCY: Departmental Offices, Treasury.

ACTION: Request for comment.

SUMMARY: The Financial Literacy and Education Improvement Act, Title V of the Fair and Accurate Credit Transactions (“FACT”) Act of 2003 (Pub. L. 108-159), established the Financial Literacy and Education Commission (the “Commission”). On behalf of the Commission, the Department of the Treasury invites the public to comment on the topic of raising the financial literacy levels of kindergarten through postsecondary students.

DATES: Comments should be received on or before April 12, 2007 to be assured consideration.

ADDRESSES: Written comments should be sent to the Department of the Treasury, Financial Literacy and Education Commission, Room 1406, 1500 Pennsylvania Avenue, NW., Washington, DC 20220, or via e-mail to FLECstrategy@do.treas.gov.

FOR FURTHER INFORMATION CONTACT: Requests for additional information should be directed to Luz Figuereo at (202) 622-7881 (not a toll free number), or by e-mail to the above address. Additional information regarding the Financial Literacy and Education Commission and the Department of the Treasury's Office of Financial Education may be obtained through the Office of Financial Education's Web site at: http://www.treas.gov/financialeducation.

SUPPLEMENTARY INFORMATION: Request for Comments: Comments are specifically requested concerning the following questions:

(1) What are some ways to overcome the challenges faced in bringing financial literacy programs into kindergarten through grade 12 classrooms? (2) Are there unique problems encountered when trying to improve the financial literacy of postsecondary students? If so, what are some ways to solve those problems? (3) What are the essential elements of an effective teacher-training program for financial education? (4) What should be the role of private sector companies in youth financial education? What are the benefits and challenges of this type of involvement? (5) What should be the role of not-for-profit organizations in youth financial education? What are the benefits and challenges of this type of involvement?

When appropriate, cite specific examples to illustrate your responses to any of these questions. Respondents are urged to keep comments succinct and responsive to these questions.

The Commission: The Commission is chaired by the Secretary of the Treasury and is comprised of the heads of the Office of the Comptroller of the Currency, the Office of Thrift Supervision, the Federal Reserve Board, the Federal Deposit Insurance Corporation, the National Credit Union Administration, the Securities and Exchange Commission, the Departments of Education, Agriculture, Defense, Health and Human Services, Housing and Urban Development, Labor, and Veterans Affairs, the Federal Trade Commission, the General Services Administration, the Small Business Administration, the Social Security Administration, the Commodity Futures Trading Commission, and the Office of Personnel Management. The Commission was established to improve financial literacy and education of persons in the United States.

Dated: February 5, 2007.
Dan Iannicola, Jr.,
Deputy Assistant Secretary for Financial Education.

[FR Doc. E7-2238 Filed 2-9-07; 8:45 am]

BILLING CODE 4811-42-P